DEPARTMENT OF ENERGY

Federal Energy Regulatory Commission

[Project No. 7269-028]

Janet A. Boyd, Boyd Hydro, LLC; Notice of Application for Transfer of License, and Soliciting Comments and Motions To Intervene

On March 25, 2011, Janet A. Boyd (transferor) and Boyd Hydro, LLC (transferee) filed an application for transfer of license for the Jim Boyd Hydroelectric Project No. 7269, located on the Umatilla River in Umatilla County, Oregon.

Applicants seek Commission approval to transfer the license for the Jim Boyd Hydroelectric Project from transferor to transferee.

Applicants' Contact: Transferor: Janet A. Boyd, 78855 Quick Road, Hermiston, OR 97838. For Transferee: Ted S. Sorenson, Manager, Boyd Hydro, LLC, 5203 South 11th East, Idaho Falls, Idaho 83404, (208) 522-8069.

FERC Contact: Patricia W. Gillis, (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-7269) in the docket number field to access the document. For assistance, call toll-free 1-866-208-3372.

Dated: May 4, 2011.
Kimberly D. Bose,
Secretary.

[FR Doc. 2011-11498 Filed 5-10-11; 8:45 am]

BILLING CODE 6717-01-P